FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel—Operating Common Carrier Ocean Transportation Intermediary Applicants

Cosmo Freight Solutions, Inc., 154-09 146th, Unit #3C, Jamaica, NY 11434, Officers:Steve Chang, Secretary (Qualifying Individual), Matthew Wong, President.

Samrat Container Lines, Inc., 2060 Oak Tree Road, 1st Fl. East, Edison, NJ 08820, Officers:Milton D'Souza, President (Qualifying Individual), Deepak Lall, Vice President.

Poseidon Agencies, Inc. dba Poseidon Shipping & Trading Co., 601 Heritage Drive, Suite 111, Jupiter, FL 33458, Officer:Niko Alexander Tomc, Sr., President (Qualifying Individual).

DS Logistics USA, LLC, 176 Fort Lee Road, #2A, Leonia, NJ 07605, Officers: Woo Do Lim, Member (Qualifying Individual), Sun Hwa Lee, Member.

TFMarine, Inc., 452 Glynwynne Road, Haverford, PA 19041, Officers:Thomas F. Mosimann, Jr. (Qualifying Individual), Walter Penney, Secretary.

Good One Logistics Inc., 1001 Nicholas Blvd., Unit A, Elk Grove Village, IL 60007, Officers:Anne Lai, President (Qualifying Individual), Dennis Lai, Treasurer.

Fastway Moving and Trading Corp., 4100 N. Powerline Rd., Suite W-3, Pompano Beach, FL 33073, Officers:Leonardo P. Albuquerque, President (Qualifying Individual), Victor Sancho Passos, Vice President.

Surexpress, Inc., 10725 Springdale Avenue, Unit #1, Santa Fe Springs, CA 90670, Officers:Oscar P. Luna, Secretary (Qualifying Individual), Fabian Cerutti, President.

Shiplane Transport, Inc., 2620 N. Oak Park, Chicago, IL 60707, Officers:Elizabeth Esparza, Vice President (Qualifying Individual), Claudia Esparza, Secretary.

Lloyds Global Logistics, Inc. dba Lloydscargo, 615 N. Nash Street, Suite #303, El Segundo, CA 90245, Officer:Arthur R. Biancone, President (Qualifying Individual).

Fastway Moving and Services Inc., 52 Butler Street, Elizabeth, NJ 07206, Officers:Leonardo P. Albuquerque, V.P. Bus. Development (Qualifying Individual), Victor Sancho Passos, Vice President.

Gallagher International LLC, 5301 Jefferson Highway, New Orleans, LA 70123, Officers:Bonny B. Maloney, Manager (Qualifying Individual), Robert S. Maloney, Owner/Manager.

Non-Vessel—Operating Common Carrier and Ocean Freight Forwarder Transportation Intermediary Applicants

D.L. International Logistics, Inc., 3500 NW. 115th Avenue, Doral, FL 33178, Officers:Sandra De Leon, Ocean Coordinator (Qualifying Individual), Fernando De Leon, President.

Pathfinder Logistics International, LLC, dba Olympic Freight, 11729 NE Glenn Widing Drive, Portland, OR 97220, Officers:Lucy Viall, Vice President (Qualifying Individual), Jeffrey R. Wannamaker, President.

A+ Airfreight, Inc., 8003 Hertfordshire, Spring, TX 77379, Officers:Freddie J. Boren, President (Qualifying Individual), Brenda J. Boren, Director.

Ocean Freight Forwarder—Ocean Transportation Intermediary Applicants

Soo Hoo Customs Broker dba Soo Hoo Shipping, 205 S. Broadway, #708, Los Angeles, CA 90012, Officers:Brian S. Soo Hoo, President (Qualifying Individual).

S E Transportation, LLC, 26224 Enterprise Ct., Lake Forest, CA 92630, Officers:Sheila Carden, President (Qualifying Individual), Eric Carden, Vice President.

Dated: June 8, 2007.
Karen V. Gregory,
Assistant Secretary.

[FR Doc. E7-11414 Filed 6-12-07; 8:45 am]

BILLING CODE 6730-01-P